DEPARTMENT OF DEFENSE

Department of the Army

Record of Decision for Stationing and Training of Increased Aviation Assets Within U.S. Army Alaska

AGENCY: Department of the Army, DoD.

ACTION: Notice of Availability (NOA).

SUMMARY: The Department of the Army announces the availability of its Record of Decision (ROD) that documents and summarizes the decision for implementing actions to increase numbers and types of aviation assets and training within U.S. Army Alaska (USARAK). The decision is based on the analysis described in the Final Environmental Impact Statement (FEIS) for Stationing and Training of Increased Aviation Assets within U.S. Army Alaska (August 2009), supporting studies, and comments provided during formal comment and review periods.

ADDRESSES: Requests for copies of the Army's ROD may be made to Ms. Carrie McEnteer, Directorate of Public Works, Attention: IMPC-FWA-PWE, 1060 Gaffney Road #4500, Fort Wainwright, AK 99703-4500; fax: (907) 361-9867; e-mail address: carrie.mcenteer@us.army.mil.

FOR FURTHER INFORMATION CONTACT: Ms. Linda L. Douglass, Public Affairs Office, 1060 Gaffney Road #5900, Fort Wainwright, AK 99703-5900; telephone: (907) 353-6701; e-mail address: linda.douglass@us.army.mil.

SUPPLEMENTARY INFORMATION: The Army has decided to proceed with implementing the Preferred Alternative (Alternative 2) identified in the FEIS to reorganize and augment its aviation assets in Alaska as an Aviation Task Force (ATF). The ATF will be formed by augmenting USARAK's existing assigned aviation assets (approximately 490 Soldiers and 32 helicopters) with 710 additional Soldiers and 40 additional helicopters. Alternative 2 will result in 1,200 total Soldiers and 72 total helicopters at Fort Wainwright (FWA), with a total projected population increase of approximately 2,005 (including Soldiers, Family members, and Civilian support personnel). The ATF will be permanently stationed at FWA. Construction of new facilities as well as demolition within the FWA Main Post and operation of additional generators and vehicles will be required. Training will occur on current USARAK training lands and use existing flight corridors.

By choosing to implement Alternative 2 in the ROD, the Army expects direct, indirect, and cumulative impacts as a result of troop stationing, facilities construction, and helicopter training exercises at USARAK. The principal environmental impacts will be to airspace management, cultural and visual resources, noise, hazardous materials and hazardous waste, and wildlife. Although additional helicopters will be stationed in Alaska, existing airspace aviation travel routes will be utilized, resulting in minor increases in air traffic. Significant adverse impacts will occur to the Ladd Field National Historic Landmark as a result of facility construction at FWA. Adverse impacts will be the result of the new construction being out of scale with historic buildings, historical viewshed obstruction and change in use of two historic buildings. Temporary minor noise impacts will occur due to facility construction. Noise associated with helicopter training will increase but not to a level that will significantly increase annoyance levels at FWA or surrounding lands. Hazardous materials and waste, both existing sources and those created by the stationing and operation of an aviation unit, will be managed under existing programs and agreements. Facility construction is proposed within known areas of contamination. USARAK will continue to consult with the appropriate State and federal agencies as outlined in existing agreements in order to protect human health and the environment. Various wildlife species will be affected by increased military training, specifically moose, bison, caribou, trumpeter swan, and bear; however, population level impacts will not occur. In addition, increased hunting pressure on game mammals could result from increased stationing of Soldiers.

As part of the decision to implement Alternative 2 at FWA, the Army will enact environmental mitigation measures to minimize the impacts of this decision, including the implementation and continuation of existing environmental management programs, use of best management practices, and other specific mitigation measures. The majority of mitigation measures the Army has committed to in the ROD involve the continued use of existing management programs and existing best management practices. In addition to these existing programs, the Army and the National Historic Preservation Act Section 106 consulting parties have developed specific mitigation measures to minimize the adverse effects to the Ladd Field National Historic Landmark at FWA. These measures have been outlined and agreed to in a Programmatic Agreement between the Army and the Section 106 consulting parties.

The ROD outlines that Alternative 2 reflects the proper balance of enhancing USARAK aviation capabilities, improving training opportunities for existing USARAK forces, improving the Army's ability to support worldwide military operations, and protecting the environment.

Copies of the ROD can be viewed and downloaded at http://www.usarak.army.mil/conservation/NEPA_home.html.

Dated: November 2, 2009.
Addison D. Davis, IV,
Deputy Assistant Secretary of the Army (Environment, Safety and Occupational Health).

[FR Doc. E9-27177 Filed 11-12-09; 8:45 am]

BILLING CODE 3710-08-M